DEPARTMENT OF HEALTH AND HUMAN SERVICES

National Institutes of Health

Office of the Director, National Institutes of Health, Amended Notice of Meeting

Notice is hereby given of a change in the meeting of the Recombinant DNA Advisory Committee, March 15, 2005, 8 a.m. to March 17, 2005, 6 p.m., Bethesda Marriott, 5151 Pooks Hill Road, Bethesda, MD 20814 which was published in the Federal Register on February 8, 2005, 70FRN6720.

The meeting has been changed to a two day meeting, to be held on March 15-16, 2005. The meeting agenda can be viewed at http://www4.od.nih.gov/oba/RAC/meeting.html. The meeting is open to the public.

Dated: February 18, 2005.
LaVerne Y. Stringfield,
Director, Office of Federal Advisory Committee Policy.

[FR Doc. 05-3870 Filed 2-28-05; 8:45 am]

BILLING CODE 4140-01-M